DEPARTMENT OF AGRICULTURE

Agricultural Marketing Service

[Doc. No. AMS-TM-22-0081]

Transportation and Marketing Program; Request for Extension of a Currently Approved Information Collection

AGENCY: Agricultural Marketing Service, USDA.

ACTION: Notice and request for comments.

SUMMARY: In accordance with the Paperwork Reduction Act of 1995, this notice announces the Agricultural Marketing Service's (AMS) intention to request approval from the Office of Management and Budget, for extension of a currently approved collection titled “Local Food Directories and Survey” (OMB 0581-0169). Under the Agricultural Marketing Act of 1946, as amended, AMS is responsible for conducting research to enhance market access for small and medium sized farmers. The role of the Marketing Services Division (MSD) of AMS is to facilitate distribution of U.S. agricultural products. This information is used to populate USDA's National Farmers Market Directory and periodically market managers are invited to participate in a comprehensive survey assessing the farmers market sector.

DATES: Comments on this notice must be received by January 24, 2023.

ADDRESSES: Interested persons are invited to submit comments concerning this notice. Comments should be submitted online at https://www.regulations.gov or mailed to Edward Ragland, Marketing Services Division, Transportation and Marketing Program, Agricultural Marketing Service, U.S. Department of Agriculture, 1400 Independence Ave. SW, Room 1529, South Building, Ag Stop 0269, Washington, DC 20250-0269. All comments should reference docket number (AMS-TM-22-0081), the date, and the page number of this issue of the Federal Register. All comments submitted in response to this notice will be posted without change, including any personal information provided, at https://www.regulations.gov and will be included in the record and made available to the public.

FOR FURTHER INFORMATION CONTACT: Edward Ragland, Marketing Services Division, Transportation and Marketing Program, Agricultural Marketing Service, U.S. Department of Agriculture, 1400 Independence Ave. SW, Room 1529, South Building, Ag Stop 0269, Washington, DC 20250-0269; Telephone (202) 720-8317; Email: edward.ragland@usda.gov.

SUPPLEMENTARY INFORMATION: In 2020, the survey of the farmers market sector was administered by the National Agricultural Statistical Service, (NASS). AMS plans to partner again with NASS in 2025 to survey the farmers market sector. Information will also be collected by AMS to populate the National Farmers Market Directory, as well as three additional local food directories: Community Supported Agriculture Directory, Food Hub Directory, and On-Farm Market Directory. All four directories are national in scope and provide free advertising for producers of local agricultural products. The directories also assist customers to locate local food enterprises.

Title: Local Food Directories and Survey.

OMB Number: 0581-0169.

Expiration Date of Approval: January 31, 2023.

Type of Request: Extension of a currently approved information collection.

Abstract: Under the Agricultural Marketing Act of 1946, as amended (7 U.S.C. 1621 et seq.), AMS is responsible for conducting research to enhance market access for small- and medium-sized farmers. To facilitate distribution of U.S. agricultural products, MSD identifies marketing opportunities; provides analysis to help take advantage of those opportunities; and develops and evaluates solutions, including improving farmers markets and other direct-to-consumer marketing activities. Various types of direct-to-customer local food enterprises serve different parts of the food marketing chain but all focus on the small-to medium-sized agricultural producers that have difficulty obtaining access to large scale commercial distribution channels.

The definitions of farmers markets, on-farm markets, community-supported agriculture (CSA), and food hubs, as utilized by AMS for the purposes of the Local Food Directories and Survey are listed below.

Topic areas in USDA's National Farmers Market Managers Survey include: characteristics and history of farmers markets, types of products sold, including fresh, locally-grown produce, location of the markets, programs to encourage healthy eating, special events, marketing methods, participation in Federal programs designed to increase consumption of fresh fruits and vegetables, vendor retention and recruitment, market growth and enhancement, information farmers market managers have and how they derive estimates of the number of customers, sales, and number of vendors.

A farmers market is a collection of two or more farm vendors selling agricultural products directly to customers at a common, recurrent physical location. This marketing channel allows farm vendors to receive retail prices for their products, capturing a larger share of customers' food dollar.

An on-farm market is a single farm operation that sells agricultural and/or horticultural products directly to customers on its farm property or on property adjacent to its farm. Most products sold at the on-farm market are either grown on the proprietor's farm or are sourced from neighboring farms. An on-farm market may operate seasonally or year-round. On-farm markets are an important component of direct marketing, adding value by offering customers a visit to the farm and the opportunity to purchase products from the people who grew them.

A CSA enterprise is defined as a farm or network/association of multiple farms that offer customers regular (usually weekly) deliveries of locally-grown farm products during one or more harvest season(s) on a subscription or membership basis. Customers have access to a selected share or range of farm products offered by a single farm or group of farmers based on partial or total advance payment of a subscription or membership fee. The up-front working capital generated by selling shares reduces the financial risk to the farmer(s). Generally, farmers receive better prices for their crops and have reduced marketing costs. Consumers benefit by receiving a periodic (usually weekly) delivery of fresh locally-grown fruits, vegetables, meats, eggs and other produce. They also benefit from the ability to collectively support the sustainability of local farmers.

A food hub is a business or organization that actively manages the aggregation, distribution, and marketing of source-identified food products to multiple buyers from multiple producers, primarily local and regional producers, to strengthen the ability of these producers to satisfy local and regional wholesale, retail, and institutional demand. This marketing channel also allows farm operators to capture a larger share of consumers' food dollar.

On-farm markets, CSA, as well as food hubs, comprise an integral part of the urban/farm linkage and have continued to rise in popularity, mostly due to the growing consumer interest in obtaining fresh products directly from the farm. On-farm markets, CSA, and food hubs allow consumers to have access to locally grown, farm fresh produce, enable farmers the opportunity to develop a personal relationship with their customers, and cultivate consumer loyalty with the farmers. They are also providing greater access to fresh locally-grown fruits and vegetables, as well as playing an increasing role in encouraging healthier eating.

Local Food Directories and Survey—0581-0169

Estimate of Burden: Public reporting burden for this collection of information is estimated to average 0.26 hours per response, (rounded).

Respondents: Farmers market managers, farm operators that operate on-farm stores, operators of CSA, farm operations, and operators of food hubs.

Estimated Number of Respondents: 66,250.

Estimated Total Annual Responses: 8,025.

Estimated Number of Responses per Respondent: 0.26.

Estimated Total Annual Burden on Respondents: 2,069 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval. All comments will become a matter of public record.

Melissa Bailey,
Associate Administrator, Agricultural Marketing Service.

[FR Doc. 2022-25744 Filed 11-23-22; 8:45 am]

BILLING CODE P